DEPARTMENT OF THE INTERIOR

Bureau of Land Management

[LLWY-957400-11-L14200000-BJ0000-TRST]

Filing of Plats of Survey, Nebraska

AGENCY: Bureau of Land Management, Interior.

ACTION: Notice.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the management of these lands. The lands surveyed are:

The plat and field notes representing the dependent resurvey of portions of the Winnebago Indian Reservation Boundary, the south and east boundaries, the subdivisional lines and the subdivision of sections 35 and 36, and the survey of the subdivision of sections 35 and 36, Township 27 North, Range 5 East, Sixth Principal Meridian, Nebraska, Group No. 169, was accepted April 26, 2011.

The plat and field notes representing the dependent resurvey of portions of the Winnebago Indian Reservation Boundary, the south and east boundaries and the subdivision of sections 35 and 36, and the survey of the subdivision of sections 35 and 36, Township 27 North, Range 6 East, Sixth Principal Meridian, Nebraska, Group No. 170, was accepted April 26, 2011.

The plat representing the entire record of the perpetuation of certain corners and reference monuments between sections 31 and 32, Township 27 North, Range 6 East, Sixth Principal Meridian, Nebraska, Group No. 170, was accepted April 26, 2011.

The plat and field notes representing the dependent resurvey of portions of the Winnebago Indian Reservation Boundary, the subdivisional lines and the subdivision of certain sections, and the survey of the subdivision of certain sections, Township 27 North, Range 7 East, Sixth Principal Meridian, Nebraska, Group No. 171, was accepted April 26, 2011.

The plat and field notes representing the dependent resurvey of portions of the Winnebago Indian Reservation Boundary, the subdivisional lines and the subdivision of certain sections, and the survey of the subdivision of certain sections, Township 27 North, Range 8 East, Sixth Principal Meridian, Nebraska, Group No. 172, was accepted April 26, 2011.

Copies of the preceding described plats and field notes are available to the public at a cost of $1.10 per page.

Dated: April 28, 2011.
John P. Lee,
Chief Cadastral Surveyor, Division of Support Services.

[FR Doc. 2011-10820 Filed 5-3-11; 8:45 am]

BILLING CODE 4310-22-P